DEPARTMENT OF LABOR

Employment and Training Administration

[TA-W-62,539]

Wolverine Tube, Booneville, Mississippi; Notice of Termination of Investigation

Pursuant to section 221 of the Trade Act of 1974, as amended, an investigation was initiated on December 5, 2007 in response to a petition filed by a company official on behalf of workers at Wolverine Tube, Booneville, Mississippi.

The petitioning group of workers is covered by an earlier petition (TA-W-62,523) filed on December 3, 2007, for workers of the firm in Decatur, Alabama and Booneville, Mississippi, that is the subject of an ongoing investigation for which a determination has not yet been issued. Further investigation in this case would serve no purpose. Therefore, the investigation under this petition has been terminated.

Signed at Washington, DC, this 13th day of December 2007.
Linda G. Poole,
Certifying Officer, Division of Trade Adjustment Assistance.

[FR Doc. E7-24536 Filed 12-18-07; 8:45 am]

BILLING CODE 4510-FN-P